DEPARTMENT OF THE INTERIOR

National Park Service

Final Environmental Impact Statement/General Management Plan, Fort Vancouver National Historic Site, Clark County, Washington; Notice of Availability

SUMMARY: Pursuant to section 102(2)(C) of the National Environmental Policy Act of 1969 (Pub. L. 91-190, as amended) and the Council on Environmental Quality's regulations, the National Park Service, Department of the Interior, has prepared a final environmental impact statement (EIS) for the proposed general management plan (GMP) for Fort Vancouver National Historic Site located in the city of Vancouver, Washington. This GMP describes and analyzes “action” alternatives responsive to issues and concerns voiced during the public scoping process (as well as NPS conservation planning requirements). These alternatives address visitor use and the preservation of the cultural and natural resources that provide the environment in which the Hudson's Bay Company story is presented to the public. Alternative A constitutes the No Action alternative and assumes that existing programming, facilities, staffing, and funding would generally continue at their current levels. Alternative B, the agency preferred alternative, expands opportunities for the visitor to appreciate the broad sense of history that occurred at Fort Vancouver and its place in Northwest history. Alternative C proposes full reconstruction within the Fort and additional reconstruction or delineation elsewhere within the National Historic Site (NHS). The environmental consequences of all the alternatives, and mitigation strategies, are identified, compared, and analyzed in the EIS—based on this information, Alternative B was deemed to be the “environmentally preferred” alternative.

Scoping: Public meetings were initiated by the National Park Service (NPS) in January 1999 to solicit early participation into the conservation planning and environmental impact analysis process, which aided in defining the range of issues to be analyzed. A Notice of Intent announcing preparation of the EIS/GMP was published in the Federal Register on January 7, 1999. A newsletter was produced and mailed to approximately 600 people on the park's mailing list to encourage feedback on critical park issues. The park received 29 scoping letters. Two public meetings were hosted in January 2000 from which over 150 oral comments were obtained. Scoping comments continued to be accepted and considered through the end of March 1999. During this period, the park facilitated discussions and briefings with the Vancouver National Historic Reserve Trust Board, congressional staff, elected officials, tribal representatives, public service organizations, educational institutions, and other interested members of the public.

Response to Draft Plan: During November 2002, over 670 copies of the draft EIS/GMP were mailed to agencies, organizations, and interested individuals; the documents were also made publicly available in local libraries in Vancouver, Washington and Oregon City, Oregon. A Notice of Availability was published in the Federal Register on December 3, 2002 (and EPA's notice of filing was published on December 27, 2002). In addition, advertisements were placed in the Oregonian (Portland, Oregon) and The Columbian (Vancouver, Washington) announcing release of the draft plan and locations, times, and dates for four public meetings to be held in Vancouver and Oregon City. Announcements were posted periodically on the park website, and a newsletter was prepared featuring a summary of the draft plan (and which included details for the December 2002 public meetings). A total of 4,500 newsletters were printed. Each newsletter included a mailback postage-paid response form for people to provide comments concerning the plan. Newsletters were made available at the Fort Vancouver National Historic Site visitor center, several venues at the Vancouver National Historic Reserve, and other places through the City of Vancouver including the library, museums, the Chamber of Commerce, City Hall, and the Parks and Recreation Department, and at the McLoughlin House in Oregon City, Oregon.

The public review period ended on February 8, 2003. Resulting from the opportunity for public comment, a total of 118 pieces of written correspondence were received, which included letters from agencies, organizations, and individuals, newsletter mail-back response forms, and electronically mailed responses through the Internet from the park website. In addition, a total of 65 people signed in at the public meetings (and 185 comments were recorded). Written comments were received from the following locations in the Pacific Northwest: 57 from Vancouver, Washington, 21 from Portland, Oregon, 5 from Oregon City, Oregon, 12 from other locations in Washington State, 7 from other locations in Oregon State, and 2 from Idaho. A total of 14 letters arrived from California, Louisiana, Pennsylvania, Missouri, Arizona, Maryland, New York, Massachusetts, and Washington, DC.

Throughout the overall conservation planning and environmental impact analysis process, consultations were held with the U.S. Fish and Wildlife Service, National Marine Fisheries Service, Washington State Historic Preservation Office, and the Advisory Council for Historic Preservation. Except for the Washington State Historic Preservation Office, no written comments were received from these four agencies. Three tribes prepared written comments; the Cowlitz Indian Tribe, the Confederated Tribes of the Grand Ronde Community of Oregon, and the Confederated Tribes of the Warm Springs Reservation of Oregon.

The following elements of the proposed plan received the most comment: Village and Waterfront expansion, reconstruction, Research and Education Center, living history, Reserve visitor center, land bridge connection, adding the McLoughlin House NHS as a unit of Fort Vancouver NHS, East Fifth Street closure, relationship with Pearson Field, parking, food concessions, HBC cemetery, and staffing and funding. All letters are reproduced in the final EIS/GMP.

In addition to corrections and editorial changes, two elements of the proposed plan were modified based on public comment. Neither of these two changes constitutes an impairment of park resources or a significant impact of a singular or cumulative nature. The first relates to the proposed closure of East Fifth Street. East Fifth Street will remain open to public vehicular use. As mentioned in the draft EIS/GMP, NPS staff will work with the city's Public Works Department staff and officials to change the appearance and texture of the street surface to reflect a more historic appearance.

The second change relates to the temporary parking lot at the Fort. The action proposed in the draft EIS/GMP was to remove this parking lot completely and to construct a new parking area within the south or east barracks. Comments from public meetings stated the importance of keeping this lot for use by persons with disabilities and the elderly, who may have trouble walking a longer distance to the Fort. In response, the NPS planning team recommends removing the existing temporary parking lot, with the provision of several permanent ADA parking spaces with a drop-off and loading area for passengers.

Final Proposed Plan and Alternatives: The final EIS GMP includes two action alternatives and a no-action (existing conditions) alternative—no substantive changes in actions proposed or attendant mitigation strategies have occurred as a result of public review and comment. Under all of the action alternatives, agricultural fields around the fort palisade would be restored as part of Hudson's Bay Company historic landscape (when the City of Vancouver vacates Pearson Airfield T-hangars and the former aviation museum building). In addition, park staff would administer any and all portions of the south and east Vancouver Barracks area as may be determined excess to needs of the U.S. Army by the Secretary of the Army. Use of this area could include restoring the Vancouver Barracks cultural landscape, adapting and reusing existing historic buildings, leasing properties to the City of Vancouver, providing for additional parking, staging public transportation operations, and incorporating administrative functions.

Alternative A is the no-action alternative and assumes that existing conditions, including programming, facilities, staffing, and funding, would generally continue at their current levels. This alternative would include fulfilling the existing commitments and relationships with the Reserve. No new substantial facility or program initiatives would be proposed under this alternative. The NHS would continue to work with the City of Vancouver to extend the City's proposed Discovery Historic Loop Trail through the Village of the NHS and along East Fifth Street. In cooperation with the City of Vancouver and Washington Department of Transportation, a pedestrian overpass would be built over State Route 14 and the railroad to connect the Fort Vancouver Waterfront and the City's Old Apple Tree Park to link the Fort and HBC Village. The current NHS visitor center would be retained in its current configuration and location, as would the current Vancouver National Historic Reserve visitor center situated in the historic General O.O. Howard House at the Vancouver Barracks. In addition, this alternative provided for technical assistance to the McLoughlin House NHS in Oregon City, Oregon (which was an affiliated unit of the National Park System). This no longer applies because on July 29, 2003 President Bush signed P. L. 108-63 (known also as H.R. 733), which authorizes the Secretary of the Interior to acquire the McLoughlin House NHS for inclusion in Fort Vancouver NHS.

Alternative B constitutes the Preferred Alternative, and this proposed course of action has also been determined to be the “environmentally preferred” alternative. Implementing this alternative would result in expanded opportunities for the visitor to appreciate the broad sense of history that occurred at Fort Vancouver and its place in Northwest history. Work to reconstruct nine Hudson's Bay Company structures within the fort palisade, and two at the Village, would be undertaken. A research and education center would be developed within the fort. Interpretive components would be added including wayside exhibits and delineation of structures in certain locations. Much of the historic landscape would be restored. The NPS would develop an interpretive area at the Waterfront by partially reconstructing the Salmon Store as an interpretive shed, and delineating several other historic Hudson's Bay Company structures. The original location of the wharf would be simulated and the historic pond delineated with plants. A portion of Columbia Way would be realigned to better accommodate visitor circulation and interpretation.

In cooperation with the City of Vancouver and the Washington Department of Transportation, the pedestrian overpass would be widened as a land bridge to allow for interpretation devices and vegetation. A local transit authority, in cooperation with NPS and other Reserve Partners, would implement a shuttle system to facilitate visitation. Other cooperative sharing would include administrative, maintenance, and visitor facilities with Reserve Partners. The NPS would recommend that one of the four buildings fronting the historic Parade Ground as determined excess by the Secretary of the Army be renovated as the joint administrative headquarters for the park and other Reserve offices. Maximum use would be made of existing structures including renovation of the existing Fort Vancouver visitor center as the Vancouver National Historic Reserve visitor center jointly managed by the Reserve Partners including the NPS.

Implementation of this alternative would result in development of additional educational outreach programs and new research facilities related to the Hudson's Bay Company and early U.S. Army period. This alternative recommends that the McLoughlin House National Historic Site in Oregon City, Oregon become a unit of Fort Vancouver NHS and be managed by Fort Vancouver National Historic Site staff. As noted above, legislation passed on July 29, 2003 authorized the Secretary of the Interior to acquire this site for inclusion in Fort Vancouver NHS.

Alternative C contains many of the same actions as the Preferred Alternative, but key differences include the following: Full reconstruction within the fort palisade, along with the reconstruction of the two historic School Houses and a barn to the north of the Fort. Additional delineation of structures would occur at the Waterfront and the Village. The historic Salmon Store would be reconstructed along the Columbia River shoreline, as would the historic wharf and other waterfront features. An ethno botanical garden would be constructed to interpret the local historic uses of native plants. An opening in the railroad berm would be created to visually link the Fort to the Waterfront. To facilitate visitor use and interpretation, a portion of Columbia Way would be closed to vehicular traffic in cooperation with the City of Vancouver. The current NHS visitor center would be renovated and retained for more detailed interpretation concerning Fort Vancouver, while a new location would be sought for a joint Vancouver National Historic Reserve visitor facility to provide the public with information and orientation to all the Reserve stories and venues. The location for this facility is yet to be determined, but priority would be given to rehabilitation of an historic structure within the Vancouver Barracks Historic District that is listed in the National Register of Historic Places. The research and education center would be located within the Vancouver Barracks portion of the Reserve.

Public Availability: The final EIS/GMP is now available. Interested persons and organizations wishing to express any new concerns may obtain the document from the Superintendent, Fort Vancouver National Historic Site, 612 East Reserve Street, Vancouver, Washington 98661, or via telephone at (360) 696-7655. The document may also be reviewed at area libraries, or obtained electronically via the park Web site at http://www.nps.gov/fova/news.htm. Any written responses must be postmarked not later than 30 days following publication of EPA's notice of filing in the Federal Register (immediately upon publication, this date will be posted on the park website). All responses will become part of the public record. If individuals responding request that their name or/and address be withheld from public disclosure, the request will be honored to the extent allowable by law. Such requests must be stated prominently in the beginning of the letter. There also may be circumstances wherein the NPS will withhold a respondent's identity as allowable by law. As always: the NPS will make available to public inspection all submissions from organizations or businesses and from persons identifying themselves as representatives or officials of organizations; and, anonymous comments may not be considered.

Decision: Not sooner than 30 days after release of the final EIS/GMP a Record of Decision will be prepared. As this is a delegated EIS, the official responsible for the final decision is the Regional Director, Pacific West Region; subsequently the official responsible for implementing the approved plan would be the Superintendent, Fort Vancouver National Historic Site.

Dated: November 24, 2003.
Jonathan B. Jarvis,
Regional Director, Pacific West Region.

[FR Doc. 04-1286 Filed 1-21-04; 8:45 am]

BILLING CODE 4310-99-P